DEPARTMENT OF THE INTERIOR

Office of Surface Mining Reclamation and Enforcement

30 CFR Chapter VII

RIN 1029-AC54

Placement of Coal Combustion Byproducts in Active and Abandoned Coal Mines

AGENCY: Office of Surface Mining Reclamation and Enforcement (OSM), Interior.

ACTION: Advance notice of proposed rulemaking; extension of comment period.

SUMMARY: We are extending the comment period for the advance notice of proposed rulemaking (ANPR) published in the March 14, 2007 Federal Register for 30 days. The ANPR is related to the placement of coal combustion byproducts (CCBs) in active and abandoned coal minesites.

DATES: To ensure consideration, we must receive your comments on or before June 13, 2007.

ADDRESSES: You may submit comments, identified by docket number 1029-AC54, by any of the following methods to the indicated address:

• E-mail: rules_comments@osmre.gov. Please include docket number 1029-AC54 in the subject line of the message.

• Mail/Hand-Delivery/Courier to the OSM Administrative Record Room: Office of Surface Mining Reclamation and Enforcement, Administrative Record, Room 252-SIB, 1951 Constitution Avenue, NW., Washington, DC 20240.

• Federal e-Rulemaking Portal: http://www.regulations.gov. The notice is listed under the agency name “SURFACE MINING RECLAMATION AND ENFORCEMENT OFFICE.” Click “Add Comments” to submit comments.

FOR FURTHER INFORMATION CONTACT: John Craynon, P.E., Chief, Division of Regulatory Support, Office of Surface Mining Reclamation and Enforcement, 1951 Constitution Ave., NW., MS-202, Washington, DC 20240; Telephone 202-208-2866; E-mail: jcraynon@osmre.gov.

SUPPLEMENTARY INFORMATION: On March 14, 2007, we published the ANPR that invited comment on how we should revise the regulations implementing Titles IV and V of the Surface Mining Control and Reclamation Act of 1977 (SMCRA or the Act) to regulate the placement of CCBs on active and abandoned coal minesites and what type of guidance documents we should issue, if any. (72 FR 12026). We also sought comment on whether section 405(i) of the Act provides sufficient latitude to require that abandoned mine land reclamation project submissions include site-specific plans and requirements concerning the placement of CCBs. The comment period was originally scheduled to close May 14, 2007.

After publishing the ANPR, we received requests from several parties to extend the comment period. We reviewed the requests and have decided to extend the public comment period for the ANPR for 30 days. The public comment period will now close June 13, 2007.

Comments received in response to the ANPR will help us scope and frame the proposed rule. Before including your address, phone number, e-mail address, or other personal identifying information in your comment, you should be aware that your entire comment—including your personal identifying information—may be made publicly available at any time. While you can ask us in your comment to withhold from public review your personal identifying information, we cannot guarantee that we will be able to do so.

Dated: May 4, 2007.
C. Stephen Allred,
Assistant Secretary, Land and Minerals Management.

[FR Doc. 07-2359 Filed 5-11-07; 8:45 am]

BILLING CODE 4310-05-M